GENERAL SERVICES ADMINISTRATION

[Notice-PBS-2019-07; Docket No. 2019-0002; Sequence No. 17]

Notice of Availability of a Final Supplemental Environmental Impact Statement/Final Programmatic Section 4(f) Evaluation for the Construction of a New U.S. Land Port of Entry in Madawaska, Maine, and a New Madawaska-Edmundston International Bridge (the FSEIS)

AGENCY: Public Buildings Service (PBS), General Services Administration (GSA); Federal Highway Administration (FHWA); Maine Department of Transportation (MaineDOT).

ACTION: Notice.

SUMMARY: Pursuant to the requirements of the National Environmental Policy Act of 1969 (NEPA), the Council on Environmental Quality Regulations, GSA Order ADM 1095.1F Environmental Considerations in Decision Making, the GSA PBS NEPA Desk Guide, the FHWA Policy Guide, and FHWA's Environmental Impact and Related Procedures, GSA, PBS, FHWA, and MaineDOT, in cooperation with the U.S. Coast Guard and in coordination with the U.S. Customs and Border Protection (CBP), announce the availability of a Final Supplemental Environmental Impact Statement (FSEIS)/Final Programmatic Section 4(f) Evaluation for the proposed new U.S. land port of entry (LPOE) in Madawaska, Maine, and a new International Bridge between Madawaska, Maine, and Edmundston, New Brunswick, Canada.

DATES: The comment period for the FSEIS will end November 4, 2019. Comments should be sent to the individuals listed below.

ADDRESSES: GSA, FHWA, and MaineDOT will have copies of the FSEIS for review at the Town of Madawaska Town Office on 328 St. Thomas Street, Suite 101, Madawaska, Maine 04756. Further information, including an electronic copy of the FSEIS, may be found online on the following websites:

• gsa.gov/madawaskalpoe.

• https://www.maine.gov/mdot/planning/studies/meib/.

FOR FURTHER INFORMATION CONTACT: Alexas Kelly, Project Manager, GSA, New England Region, 10 Causeway Street, 11th Floor, Boston, MA 02222, by phone at 617-549-8190, or by email at alexandria.kelly@gsa.gov; or Cheryl Martin, Assistant Division Administrator, FHWA, Edmund S. Muskie Federal Building, 40 Western Avenue, Room 614, Augusta, ME 04330, by phone at 207-512-4912, or by email at cheryl.martin@dot.gov.

SUPPLEMENTARY INFORMATION: The purpose of the Proposed Action is to provide for the long-term safe and efficient flow of current and projected traffic volumes, including the movement of goods and people between Edmundston, New Brunswick, and Madawaska, Maine. The Proposed Action is needed because (1) the existing International Bridge is nearing the end of its useful life, and (2) the existing Madawaska LPOE is substandard, inhibiting the agencies assigned to the Port from adequately fulfilling their respective missions.

The existing Madawaska-Edmundston International Bridge opened to traffic in 1921 and its design life has been exceeded. Notable bridge deficiencies are (1) substandard roadway width and clearance, (2) foundation susceptible to undermining, (3) piers cracked and deteriorated, (4) significant steel corrosion, (5) bridge capacity is insufficient, and (6) deficiencies prompting the bridge posting on October 27, 2017, from 50 tons to 5 tons.

A Final Environmental Impact Statement (FEIS) and Record of Decision (ROD) were published in January 2007, which addressed the construction of a new Madawaska LPOE. Built in 1959, the current LPOE suffers from facility, operational and site deficiencies, and does not meet current CBP mission and operational requirements for an LPOE. A few noted deficiencies: (1) Lack of office and inspection areas, (2) deficient inbound and outbound passenger and commercial processing areas, (3) inadequate queuing space for vehicles, and (4) inability to meet the Architectural Barriers Act. In furtherance of the LPOE Project, GSA previously acquired approximately nine acres of land but did not commence construction.

A Supplemental Environmental Impact Statement (SEIS) was needed due to a change in circumstance: The decision by MaineDOT and New Brunswick Department of Transportation and Infrastructure (NBDTI) to include alternatives for addressing deficiencies to the existing Madawaska-Edmundston International Bridge. The SEIS addresses changes to the Proposed Action, including an updated design in accordance with current GSA and CBP requirements, a new International Bridge, and additional land acquisition.

The FSEIS identifies the Preferred Alternative for the new U.S. LPOE and new International Bridge location and design; describes the environmental impacts of the proposed project and proposed mitigation; and addresses comments received on the Draft Supplemental Environmental Impact Statement/Draft Programmatic Section 4(f) Evaluation issued on November 26, 2018.

The Preferred Alternative is identified as LPOE Alternative C and Bridge Alternative 2 (bridge replacement with a steel plate girder bridge with six spans and five piers, west of the existing bridge) from the Draft Supplemental Environmental Impact Statement.

The new LPOE would consist of a main administration building and support building with parking, circulation and processing areas. The new LPOE would be designed in accordance with the requirements and criteria of the GSA and CBP to provide facilities adequate for fulfilling the agencies' respective missions. Portions of Mill Street and Main Street adjacent to the LPOE may be reconstructed or re-profiled to provide smooth ingress and egress to the LPOE. The Proposed Action includes the demolition of the existing LPOE.

The new International Bridge would be designed in accordance with MaineDOT standards with a design life of at least 75 years. The Proposed Action includes the demolition of the existing International Bridge.

In accordance with GSA Order #ADM 1095.1F Environmental Considerations in Decision Making and 23 CFR 771 Environmental Impact and Related Procedures, GSA and FHWA expect to complete and sign a Record of Decision (ROD) no sooner than 30 days after publication of the FSEIS Notice of Availability in the Federal Register by the U.S. Environmental Protection Agency.

Dated: September 23, 2019.
Drew Dilks,
Acting Division Director, Design and Construction, Public Buildings Service.

[FR Doc. 2019-21691 Filed 10-3-19; 8:45 am]

BILLING CODE 6820-FP-P